DEPARTMENT OF COMMERCE

National Ocean and Atmospheric Administration

Proposed Information Collection; Comment Request; Contingent Valuation Surveys To Assess Value of Selected Hurricane Sandy Restoration Efforts in New York and New Jersey

AGENCY: National Ocean and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 22, 2014.

ADDRESSES: Direct all written comments to Jennifer Jessup, Departmental Paperwork Clearance Officer, Department of Commerce, Room 6616, 14th and Constitution Avenue NW., Washington, DC 20230, (or via the Internet at JJessup@doc.gov).

FOR FURTHER INFORMATION CONTACT: Requests for additional information or copies of the information collection instrument and instructions should be directed to Pete Wiley, NOAA Office for Coastal Management, 1305 East West Hwy., Silver Spring, MD 20910, 301-563-1141, peter.wiley@noaa.gov.

SUPPLEMENTARY INFORMATION:

I. Abstract

This request is for a new information collection.

Superstorm Sandy caused significant damage to the New York and New Jersey coast. There are numerous ongoing and planned projects to repair the damage caused by the storm. The Disaster Relief Appropriations Act of 2012 provided NOAA with funding to assess the ecosystem service values associated with restoration options being considered in the wake of Sandy. Two geographic areas that were particularly impacted by the Storm were the Forsythe National Wildlife Refuge in New Jersey and Jamaica Bay in New York. Under this collection effort, the NOAA Office for Coastal Management will implement a contingent valuation survey to assess the value of the ecosystem services that will be generated by restoration projects being implemented in both areas. Data will be collected from individuals who reside in the New York and New Jersey areas. NOAA will implement two separate surveys: One for each geographic area.

There are a number of restoration projects that are ongoing in the Forsythe National Wildlife Refuge and in Jamaica Bay. After reviewing the scope and focus of many of those restoration projects, NOAA has decided to focus on two specific projects. For the Forsythe National Wildlife Refuge, NOAA will focus on the work being done under a $15 million project being conducted by the U.S. Fish and Wildlife Service. The Forsythe project will focus on restoring and enhancing the salt marsh at the Refuge to act as a natural protection from storms and to act as a habitat for wildlife. In assessing ecosystem service benefits for the Forsythe restoration work, NOAA will focus on the value of the salt marsh for storm protection, habitat, and recreation, as well as other possible ecosystem services.

The Jamaica Bay area has a number of planned and ongoing projects. NOAA has decided to focus on work being conducted at Spring Creek Park on the northern point of Jamaica Bay. The restoration work at the park will involve improving habitat and storm and flood protection. NOAA will focus on the associated ecosystem services from habitat improvements and the added storm and flood protection.

NOAA is currently contacting and working with partners and stakeholders at each site to ensure the relevancy of this work.

II. Method of Collection

NOAA will collect these data using a web-based survey instrument and will be using an online panel. The panel will consist of individuals who reside in the two areas. A number of firms maintain online panels to use in survey efforts. These firms recruit individuals to be part of the panels and target their recruitment efforts to develop panels that are representative of the general population. Individuals who are part of these panels have agreed to participate in online surveys. To access the panel, NOAA will contract with one of the firms who maintains an online panel.

III. Data

OMB Control Number: 0648-xxxx.

Form Number(s): None.

Type of Review: Regular submission (request for a new information collection).

Affected Public: Individuals and households.

Estimated Number of Respondents: 400.

Estimated Time per Response: 20 minutes.

Estimated Total Annual Burden Hours: 134 hours.

Estimated Total Annual Cost to Public: $0 in capital and reporting/recordkeeping costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 16, 2014.
Glenna Mickelson,
Management Analyst, Office of the Chief Information Officer.

[FR Doc. 2014-25054 Filed 10-21-14; 8:45 am]

BILLING CODE 3510-JS-P